DEPARTMENT OF HEALTH AND HUMAN SERVICES

Centers for Medicare & Medicaid Services

[Document Identifier: CMS-216, CMS-10191, and CMS-588]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Organ Procurement Organization/Histocompatibility Laboratory Statement of Reimbursable Cost, Manual Instructions and Supporting Regulations Contained in 42 CFR 413.20 and 413.24; Use: CMS is requesting reapproval of Form CMS-216-94 (OMB No. 0938-0102). The current form implements various provisions of the Social Security Act, including section 1881(a) which provides Medicare coverage for end-stage renal disease patients who meet certain entitlement requirements and kidney donors. It also implements sections 1881(b)(2)(B) and 1861(v)(1)(A) of the Act to determine the reasonable costs incurred to furnish treatment for renal patients and transplant patients. The reasonable costs of securing and transporting organs cannot be determined for the fiscal year until the Organ Procurement Organization/Histocompatibility Laboratory files its cost report (Form CMS-216) at year-end and costs are verified by the Medicare fiscal intermediary.; Form Number: CMS-216 (OMB#: 0938-0102); Frequency: Recordkeeping—Daily, Reporting—Annually; Affected Public: Business or other for-profit, Not-for-profit institutions, and the Federal government; Number of Respondents: 108; Total Annual Responses: 108; Total Annual Hours: 4,860.

2. Type of Information Collection Request: New Collection; Title of Information Collection: Medicare Part D Audit Guide, Version 1.0 and Supporting Regulation contained in 42 CFR Section 423.505; Use: 42 CFR section 423.505 provides CMS the regulatory authority to audit, evaluate, or inspect any Part D sponsors' performance related to the law in the areas of medication therapy management, drug utilization management, formulary, and grievances and appeals. The information collected will be an integral resource for oversight, monitoring, compliance, and auditing activities necessary to ensure quality provision of the Medicare Prescription Drug Benefit to beneficiaries.; Form Number: CMS-10191 (OMB#: 0938-New); Frequency: Recordkeeping and Reporting—Annually; Affected Public: Business or other for-profit; Number of Respondents: 564; Total Annual Responses: 564; Total Annual Hours: 54,144.

3. Type of Information Collection Request: Extension of a currently approved collection; Title of Information Collection: Electronic Funds Transfer Authorization Agreement; Use: Section 1815(a) of the Social Security Act provides the authority for the Secretary of Health and Human Services to pay providers/suppliers of Medicare services at such time or times as the Secretary determines appropriate (but no less frequently than monthly). Under Medicare, CMS, acting for the Secretary, contracts with fiscal intermediaries and carriers to pay claims submitted by providers/suppliers who furnish services to Medicare beneficiaries. Under CMS' payment policy, Medicare providers/suppliers have the option of receiving payments electronically. Form number CMS-588 authorizes the use of electronic fund transfers (EFTs).; Form Number: CMS-588 (OMB#: 0938-0626); Frequency: Recordkeeping and Reporting—On occasion; Affected Public: Business or other for-profit, Not-for-profit institutions, and State, Local or Tribal governments; Number of Respondents: 100,000; Total Annual Responses: 100,000; Total Annual Hours: 100,000.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on June 27, 2006.

CMS, Office of Strategic Operations and Regulatory Affairs, Division of Regulations Development—B, Attention: William N. Parham, III, Room C4-26-05, 7500 Security Boulevard, Baltimore, Maryland 21244-1850.

Dated: April 24, 2006.
Michelle Shortt,
Acting Director, Regulations Development Group, Office of Strategic Operations and Regulatory Affairs.

[FR Doc. E6-6385 Filed 4-27-06; 8:45 am]

BILLING CODE 4120-01-P